GENERAL SERVICES ADMINISTRATION

[OMB Control No. 3090-XXXX; Docket No. 2018-0001; Sequence No. 17]

Information Collection; CDP Supply Chain Climate Change Information Request

AGENCY: Office of Government-Wide Policy (OGP), General Services Administration.

ACTION: Notice of request for comments regarding a new request for an Office of Management and Budget (OMB) clearance.

SUMMARY: The Office of Government-wide Policy, General Services Administration (GSA) will submit a request to the Office of Management and Budget (OMB) for review and clearance for the CDP Supply Chain Climate Change Information Request. As required by the Paperwork Reduction Act of 1995.

DATES: Submit comments on or before September 10, 2018.

ADDRESSES: Submit comments identified by Information Collection 3090-XXXX; CDP Supply Chain Climate Change Information Request, by any of the following methods:

ADDRESSES: Submit comments on this collection by any of the following methods:

• Regulations.gov: http://www.regulations.gov. Submit comments via the Federal eRulemaking portal by searching for “Information Collection 3090-XXXX; CDP Supply Chain Climate Change Information Request.” Select the link “Submit a Comment” that corresponds with “Information Collection 3090-XXXX; CDP Supply Chain Climate Change Information Request.” Follow the instructions provided at the “Submit a Comment” screen. Please include your name, company name (if any), and “Information Collection 3090-XXXX; CDP Supply Chain Climate Change Information Request” on your attached document.

• Mail: General Services Administration, Regulatory Secretariat Division (MVCB), 1800 F Street NW, Washington, DC 20405. ATTN: Ms. Mandell/IC 3090-XXXX; CDP Supply Chain Climate Change Information Request.

Instructions: Please submit comments only and cite Information Collection 3090-XXXX; CDP Supply Chain Climate Change Information Request, in all correspondence related to this collection. Comments received generally will be posted without change to http://www.regulations.gov, including any personal and/or business confidential information provided. To confirm receipt of your comment(s), please check www.regulations.gov, approximately two to three days after submission to verify posting (except allow 30 days for posting of comments submitted by mail).

SUPPLEMENTARY INFORMATION:

A. Purpose

The CDP Supply Chain Climate Change Information Request is an electronic questionnaire designed to collect information pertinent to organizations' exposure to energy market and environmental risks. The questionnaire is administered by CDP North America, Inc., a 501(c)(3) nonprofit organization (“CDP”). CDP administers the questionnaire annually to companies on behalf of over 650 institutional investors and over 100 major purchasing corporations and governmental purchasing organizations. In accordance with 31 U.S. Code § 3512(c)(1)(b), GSA will use the information collected via this questionnaire to inform and develop purchasing policies and contract requirements necessary to safeguard Federal assets against waste, loss, and misappropriation resulting from unmitigated exposure to energy market and environmental risks.

B. Annual Burden Hours

Frequency: Annual.

Affected Public: Federal contractors.

Number of Respondents: 250.

Responses per Respondent: 1.

Total Annual Responses: 250.

Estimated Time per Respondent: 4.8 hrs.

Total Burden Hours: 1,210.

C. Public Comments

Public comments are particularly invited on: Whether this collection of information is necessary, whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Dated: July 2, 2018.
David A. Shive,
Chief Information Officer.

[FR Doc. 2018-14884 Filed 7-11-18; 8:45 am]

BILLING CODE 6820-61-P